DEPARTMENT OF HEALTH AND HUMAN SERVICES

Centers for Disease Control and Prevention

[30-Day-12-0800]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Focus Group Testing to Effectively Plan and Tailor Cancer Prevention and Control Communication Campaigns (OMB No. 0920-0800, exp. 1/31/2012)—Extension (Generic)—National Center for Chronic Disease Prevention and Health Promotion (NCCDPHP), Centers for Disease Control and Prevention (CDC).

Background and Brief Description

The mission of the CDC's Division of Cancer Prevention and Control (DCPC) is to reduce the burden of cancer in the United States through cancer prevention, reduction of risk, early detection, better treatment, and improved quality of life for cancer survivors. Toward this end, the DCPC supports the scientific development, implementation, and evaluation of various health communication campaigns with an emphasis on specific cancer burdens. This process requires testing of messages, concepts, and materials prior to their final development and dissemination. Communication campaigns vary according to the type of cancer, the qualitative dimensions of the message described above, and the type of respondents.

CDC is requesting OMB approval of a three-year extension to an existing generic clearance that supports cancer-related communications (OMB No. 0920-0800, exp. 1/31/2012). Information will be collected primarily through focus groups, and will be used to assess numerous qualitative dimensions of cancer prevention and control messages, including, but not limited to, knowledge, attitudes, beliefs, behavioral intentions, information needs and sources, and compliance to recommended screening intervals. Insights gained from the focus groups will assist in the development and/or refinement of future campaign messages and materials.

Over a three-year period, DCPC plans to conduct or sponsor up to 72 focus groups per year, with each group involving an average of 12 respondents. Screening will be conducted to recruit respondents for specific target audiences, e.g., health care providers or the general public. Each focus group discussion will be facilitated by a written discussion guide, and will last approximately two hours. CDC will submit an information collection request to OMB for approval of each focus group activity.

There are no costs to respondents other than their time. The total estimated annualized burden hours are 1,814.

Estimated Annualized Burden Hours
Type of respondents | Form name | Number of respondents | Number of responses per respondent | Average burden per response (in hours)
Health care providers and general public | Screening Form | 1,728 | 1 | 3/60
| Focus Group Discussion Guide | 864 | 1 | 2

Dated: October 18, 2011.
Daniel Holcomb,
Reports Clearance Officer, Centers for Disease Control and Prevention.

[FR Doc. 2011-27586 Filed 10-24-11; 8:45 am]

BILLING CODE 4163-18-P